DEPARTMENT OF THE INTERIOR

National Park Service

National Register of Historic Places; Notification of Pending Nominations and Related Actions

Nominations for the following properties being considered for listing or related actions in the National Register were received by the National Park Service before September 19, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 20, 2009.

Alexandra Lord,
Acting Chief, National Register of Historic Places/National Historic Landmarks Program.

AMERICAN SAMOA

Western District

Papa Site,

Address Restricted,

A'asufou village, 09000852

COLORADO

Delta County

Hotchkiss Methodist Episcopal Church,

285 N. 2nd St.,

Hotchkiss, 09000853

Weld County

Land Utilization Program Headquarters,

(New Deal Resources on Colorado's Eastern Plains MPS)

44741 Weld Co. Rd. 77,

Briggsdale, 09000854

HAWAII

Honolulu County

Honouliuli Internment Camp,

Address Restricted,

Waipahu, 09000855

MISSOURI

Clay County

First Methodist Church,

114 N. Marietta St.,

Excelsior Springs, 09000856

Dunklin County

Birthright, Charles and Bettie, House,

109 S. Main St.,

Clarkton, 09000857

Gasconade County

Hermann Historic District,

Roughly bounded by Wharf, First, Mozart, 5th, Schiller, 4th, Gutenberg, and Reserve Sts.,

Hermann, 09000858

St. Louis County

Downtown Kirkwood Historic District,

105-133 E. Argonne, 100-159 W. Argonne, 108-212 N. Clay, 105-140 E. Jefferson, 100-161 W. Jefferson, Kirkwood, 09000859

NEW YORK

Chenango County

Mathewson, Holden B., House,

1567 NY 26,

South Otselic, 09000860

Columbia County

Van Rensselaer, Conyn, House,

644 Spook Rock Rd.,

Claverack, 09000861

Dutchess County

Mt. Beacon Fire Observation Tower,

S. Beacon Mtn.,

Beacon, 09000862

Onondaga County

Barber, Peale's, Farm Mastodon Exhumation Site,

Rt. 17K,

Montgomery, 09000863

Queens County

Rego Park Jewish Center,

97-30 Queens Blvd.,

Rego Park, 09000864

OREGON

Wallowa County

Wallowa Ranger Station,

(Depression-Era Buildings TR)

602 W. 1st St.,

Wallowa, 09000865

TEXAS

Harris County

Farnsworth & Chambers Building,

2999 S. Wayside,

Houston, 09000866

Request for REMOVAL has been made for the following resource:

GEORGIA

Cobb County

Gibson, John S., Farmhouse,

(Kennesaw MPS)

3370 Cherokee St.,

Kennesaw, 80000998

[FR Doc. E9-23889 Filed 10-2-09; 8:45 am]

BILLING CODE P